PRESIDIO TRUST

Correction to Notice of Public Meeting

AGENCY: The Presidio Trust.

ACTION: Correction to notice of public meeting.

SUMMARY: On August 21, 2001 the Presidio Trust published notice of a public meeting of the Presidio Trust Board of Directors in the Federal Register (66 FR 43921) in accordance with both Section 103(c)(6) of the Presidio Trust Act, 16 U.S.C. Section 460bb note, Title I of Pub. L. 104-333, 110 Stat. 4097, and the Presidio Trust's bylaws. The notice incorrectly indicated that members of the public would be provided an opportunity to comment on the final Presidio Trust Implementation Plan (PTIP) and Environmental Impact Statement (EIS). This public meeting is the second public hearing regarding the draft PTIP and EIS, and members of the public will be provided an opportunity at the meeting to make oral comments for the record on the draft PTIP and EIS [italics added for emphasis]. These comments will be considered by the Presidio Trust in preparation of the final PTIP and EIS.

Time: The meeting will be held from 1 p.m. to 4 p.m. on Monday, September 17, 2001.

ADDRESS: The meeting will be held at the Officers' Club, 50 Moraga Avenue, Presidio of San Francisco.

FOR FURTHER INFORMATION CONTACT: Craig Middleton, Deputy Director for Governmental Affairs, Programs and Administration, the Presidio Trust, 34 Graham Street, P.O. Box 29052, San Francisco, California 94129-0052, Telephone: (415) 561-5300.

Dated: August 21, 2001.
Karen A. Cook,
General Counsel.

[FR Doc. 01-21661 Filed 8-27-01; 8:45 am]

BILLING CODE 4310-4R-P